DEPARTMENT OF THE INTERIOR

National Park Service

Final Decision: Ten Percent Increase in Glacier Bay Cruise Ship Quota Beginning in Year 2007

AGENCY: National Park Service, Interior.

ACTION: Notice of Availability of the Final Decision; Ten Percent Increase in the Seasonal Cruise Ship Quota for Glacier Bay National Park and Preserve for Year 2007.

SUMMARY: The Superintendent of Glacier Bay National Park and Preserve announces the decision to increase the number of cruise ships allowed to enter Glacier Bay during the summer visitor season by ten percent beginning in 2007. The current cruise ship limit is a seasonal use-day quota of 139 visits during June, July and August. This decision increases the cruise ship seasonal use-day quota to 153. The decision memorandum and related documents may be viewed online at http://www.nps.gov/glba/pphtml/documents.html.

FOR FURTHER INFORMATION CONTACT: Tomie Lee, Superintendent, Glacier Bay National Park and Preserve, P.O. Box 140, Gustavus, AK 99826; (907) 697-2203.

SUPPLEMENTARY INFORMATION: The level of seasonal cruise ship entries into Glacier Bay is controlled by special regulations found at 36 CFR 13.65(b)(2)(v) and the Vessel Quota and Operating Requirements (VQOR) EIS Record of Decision (ROD) dated November 21, 2003. Under subsection (v)(C), by October 1 of each year, “the superintendent will determine, with the director's approval, the number of cruise ship entries for the following season (June 1-August 31). This determination will be based upon available science and other information and applicable authorities.” Pursuant to the foregoing, on October 17, 2005, the NPS announced that the seasonal cruise ship use-day quota, for the 92-day summer operating season in 2006 would remain at 139, but proposed an increase in the seasonal use-day quota by 10% to 153 cruise ship use-days for the 2007 operating season.

The decision to retain the 139 cruise ship use-day quotas for the 2006 summer operating season and the proposed 10% increase to 153 cruise ship use-day quotas for the 2007 summer operating season was published in the Federal Register on January 19, 2006. The 30-day public comment period ended on February 21, 2006. The NPS received 1,020 written comments, however; no new science or other information was received which would cause NPS to modify the proposed 10% increase (14 additional cruise ship use days, from 139 to 153 cruise ship use days) for the 2007 summer operating season. The year-round daily quota for cruise ships remaining at two per day in accordance with both the ROD and existing regulations.

The decision to increase cruise ship use-days is a result of guidance provided through extensive public planning efforts resulting in the VQOR EIS ROD, reviews of the best available scientific information collected both by the National Park Service and by scientists independent of the agency, recommendations from the Glacier Bay National Park Science Advisory Board (SAB), and an assessment of that report provided by the NPS Alaska Regional Science Advisor.

Dated: April 3, 2006.
Victor Knox,
Acting Regional Director, Alaska.

[FR Doc. 06-4356 Filed 5-9-06; 8:45 am]

BILLING CODE 4312-HX-P